DEPARTMENT OF HEALTH AND HUMAN SERVICES

National Institutes of Health

National Institute on Aging; Amended Notice of Meeting

Notice is hereby given of a change in the meeting of the Career Development for Early Career Investigators Study Section, October 08, 2024, 09:30 a.m. to October 09, 2024, 06:00 p.m., National Institute on Aging, 8th Floor, 5601 Fishers Lane, Rockville, MD 20852 which was published in the Federal Register on August 19, 2024, 89 FR 67097.

Dates changes from 10/8-9/2024 to 10/24-25/2024 due to Dr. Dieguez having conflict of interest with the Society of Neuroscience conference and the ad hoc reviewers are attending the meeting. The meeting is closed to the public.

Dated: September 15, 2024.
Miguelina Perez,
Program Analyst, Office of Federal Advisory Committee Policy.

[FR Doc. 2024-21414 Filed 9-18-24; 8:45 am]

BILLING CODE 4140-01-P